DEPARTMENT OF ENERGY

Federal Energy Regulatory Commission

[Project No. 2866-008]

Metropolitan Water Reclamation District of Greater Chicago; Notice of Availability of Final Environmental Assessment

August 3, 2000.

In accordance with the National Environmental Policy Act of 1969 and the Federal Energy Regulatory Commission's (Commission) regulations, 18 CFR part 380 (Order No. 486, 52 FR 47897), the Office of Energy Projects has reviewed the application for a new license for the Lockport Hydroelectric Project. The project is located on the Chicago Sanitary and Ship Canal, in Will County, Illinois.

On May 30, 2000, the commission staff issued and distributed to all parties a draft environmental assessment on the project, and requested that comments be filed with the Commission within 30 days. Comments were filed and are addressed in the final environmental assessment (FEA).

The FEA contains the staff's analysis of the potential environmental impacts of the project and concludes that licensing the project, with appropriate environmental measures, would not constitute a major federal action that would significantly affect the quality of the human environment.

Copies of the FEA are available for review in the Public Reference Room, Room 2A, of the Commission's offices at 888 First Street, NE., Washington, DC 20426 and may also be viewed on the web at http://www.ferc.fed.us/online/rims.htm (please call (202) 208-2222 for assistance).

David P. Boergers,
Secretary.

[FR Doc. 00-20066 Filed 8-8-00; 8:45 am]

BILLING CODE 6717-01-M